DEPARTMENT OF TRANSPORTATION

Federal Highway Administration

Environmental Impact Statement; Maricopa County, AZ

AGENCY: Federal Highway Administration (FHWA), DOT.

ACTION: Notice of Intent.

SUMMARY: The FHWA is issuing this notice to advise the public that an Environmental Impact Statement will be prepared for a proposed highway project in Maricopa County, Arizona.

FOR FURTHER INFORMATION CONTACT: Kenneth Davis, Senior Engineering Manager for Operations, Federal Highway Administration, 4000 N. Central Avenue, Suite 1500, Phoenix, Arizona 85012-1906, Telephone (602) 382-8970, Fax: (602) 382-8998, e-mail: Ken.davis@dot.gov; or Mary Frye, Environmental Coordinator, Federal Highway Administration, Arizona Division, 4000 N. Central Avenue, Suite 1500, Phoenix, Arizona 85012-1906, Telephone (602) 382-8979, Fax: (602) 382-8998, e-mail: Mary.frye@dotgov.

SUPPLEMENTARY INFORMATION: The FHWA, in cooperation with the Arizona Department of Transportation (ADOT), will prepare an Environmental Impact Statement (EIS) on proposed operational improvements to the Interstate 17 (I-17) corridor in Maricopa County, Arizona. The proposed improvements for I-17 would occur along a 21-mile stretch of highway through metropolitan Phoenix from the I-17 merge with Interstate 10 near Sky Harbor Airport and extend north to the I-17 interchange with State Route 101L. The proposed project evaluation will include, but will not be limited to, potential impacts to residential and commercial development, cultural resources, threatened and endangered species, jurisdictional waters of the U.S., air and noise quality, hazardous materials, and secondary and cumulative impacts.

Improvements to the corridor are considered necessary to address current traffic volumes that exceed the existing roadway capacity resulting in heavy congestion and to accommodate the projected traffic demand associated with regional growth. The proposed I-17 improvements, which would increase capacity and improve operational efficiency, were identified as important elements of the Maricopa Association of Government's Regional Transportation Plan Freeway Program. A full range of reasonable alternatives will be considered including: (1) Taking no action; (2) using alternate travel modes; (3) making transportation system management improvements; and (4) widening the existing freeway to provide additional general travel and High Occupancy Vehicle (HOV) lanes.

The EIS will conform to the environmental review process established in Section 6002 of the Safe, Accountable, Flexible, Efficient Transportation Equity Act: a Legacy for Users (SAFETEA-LU). The Section 6002 environmental review process requires the following activities: the identification and invitation of cooperating and participating agencies; the establishment of a coordination plan; and opportunities for additional agency and public comment on the project's purpose and need, alternatives and methodologies for determining impacts. Additionally, a public hearing following the release of the draft ElS will also be provided. Public notice advertisements and direct mailings will notify interested parties of the time and place of public meetings and the public hearing.

Letters describing the proposed action and soliciting comments will be sent to appropriate Federal, State, and local agencies, including the U.S. Army Corps of Engineers, U.S. Fish and Wildlife Service, Arizona Game and Fish Department, Federal Aviation Administration, City of Phoenix, Maricopa County, and Maricopa Association of Governments. Letters will also be sent to interested parties including the Central City Village Planning Committee, Estrella Village Planning Committee, Encanto Village Planning Committee, Maryvale Village Planning Committee, Alhambra Village Planning Committee, North Mountain Village Planning Committee, Deer Valley Village Planning Committee, and appropriate Phoenix neighborhood associations.

To insure that the full range of issues related to this proposed action is addressed and all significant issues are identified, comments and suggestions are invited from all interested parties. Comments or questions concerning this proposed action and the ElS should be directed to the FHWA at the address provided above.

(Catalog of Federal Domestic Assistance Program No. 20.205, Highway Research, Planning and Construction. The regulations implementing Executive Order 12372 regarding intergovernmental consultation on Federal programs and activities apply to this program.)

Issued on: December 28, 2009.
Kenneth H. Davis,
Senior Engineering Manager for Operations, Federal Highway Administration, Arizona Division Office, Phoenix, Arizona.

[FR Doc. E9-31291 Filed 1-5-10; 8:45 am]

BILLING CODE 4910-22-M